SMALL BUSINESS ADMINISTRATION

[Declaration of Disaster #3615]

State of Florida (Amendment #1)

In accordance with a notice received from the Department of Homeland Security—Federal Emergency Management Agency—effective August 24, 2004, the above numbered declaration is hereby amended to include Flagler County as a disaster area due to damages caused by Tropical Storm Bonnie and Hurricane Charley occurring on August 11, 2004, and continuing. All counties contiguous to the above named primary county have previously been declared. All other information remains the same, i.e., the deadline for filing applications for physical damage is October 12, 2004 and for economic injury the deadline is May 13, 2005.

(Catalog of Federal Domestic Assistance Program Nos. 59002 and 59008).
Dated: August 24, 2004.
Herbert L. Mitchell,
Associate Administrator for Disaster Assistance.

[FR Doc. 04-19756 Filed 8-27-04; 8:45 am]

BILLING CODE 8025-01-P